DEPARTMENT OF AGRICULTURE

Animal and Plant Health Inspection Service

7 CFR Part 301

[Docket No. 00-007-2]

Imported Fire Ant; Quarantined Areas

AGENCY: Animal and Plant Health Inspection Service, USDA.

ACTION: Affirmation of interim rule as final rule.

SUMMARY: We are adopting as a final rule, without change, an interim rule that amended the imported fire ant regulations by designating as quarantined areas all or portions of 2 counties in Arkansas, 14 counties in North Carolina, and 19 counties in Tennessee. As a result of that action, the interstate movement of regulated articles from those areas is restricted. That action was necessary to prevent the artificial spread of the imported fire ant to noninfested areas of the United States. We also removed references to the Imported Fire Ant Program Manual in the appendix to the imported fire ant regulations.

EFFECTIVE DATE: The interim rule became effective on May 11, 2000.

FOR FURTHER INFORMATION CONTACT: Mr. Ron Milberg, Operations Officer, Invasive Species and Pest Management, PPQ, APHIS, 4700 River Road Unit 134, Riverdale, MD 20737-1236; (301) 734-5255.

SUPPLEMENTARY INFORMATION:

Background

In an interim rule effective and published in the Federal Register on May 11, 2000 (65 FR 30337-30341, Docket No. 00-007-1), we amended the imported fire ant regulations, contained in 7 CFR 301.81 through § 301.81-10, by adding 2 counties in Arkansas, 14 counties in North Carolina, and 19 counties in Tennessee to the list of quarantined areas in § 301-81-3(e). The two affected counties in Arkansas are Clark and Hot Springs. The 14 affected counties in North Carolina are Bertie, Camden, Chatham, Chowan, Currituck, Edgecomb, Gaston, Greene, Martin, Mecklenberg, Pasuotank, Perquimans, Wake, and Wayne. The 19 affected counties in Tennessee are Decatur, Fayette, Franklin, Giles, Haywood, Henderson, Lewis, Lawrence, Lincoln, Madison, Marion, Marshall, McMinn, Meigs, Monroe, Moore, Perry, Rhea, and Shelby. This action was necessary because surveys conducted by the Animal and Plant Health Inspection Service and State and county agencies revealed that the imported fire ant had spread to these areas.

Further, we amended the appendix to Subpart—Imported Fire Ant by removing the references to the Imported Fire Ant Program Manual because there is no relevant information in the Imported Fire Ant Program Manual that is not already available to inspectors in other materials.

Comments on the interim rule were required to be received on or before July 10, 2000.

We did not receive any comments. Therefore, for the reasons given in the interim rule, we are adopting the interim rule as a final rule.

This action also affirms the information contained in the interim rule concerning Executive Orders 12866, 12372, and 12988, and the Paperwork Reduction Act. Further, the Office of Management and Budget has waived the review process required by Executive Order 12866.

Regulatory Flexibility Act

This action affirms an interim rule that amended the imported fire ant regulations by designating as quarantined areas portions of 35 counties in Arkansas, North Carolina, and Tennessee. As a result of that action, the interstate movement of regulated articles from those areas is restricted. The interim rule was necessary to prevent the artificial spread of the imported fire ant to noninfested areas of the United States.

The following analysis addresses the economic effect of this rule on small entities, as required by the Regulatory Flexibility Act.

Affected entities in the quarantined areas include nurseries and greenhouses, farm equipment dealers, construction companies, and all those who sell, process, or move regulated articles from and through quarantined areas. It is now necessary to treat and certify all regulated articles before moving them interstate from the newly quarantined areas.

The 1997 market value of agricultural products sold in the 35 affected counties was $1.7 billion. Thus, this large agricultural economy is at risk due the injurious potential of the imported fire ants.

Within Arkansas' two affected counties, there are at least 15 entities that may be affected by the rule. All 15 entities are small, according to the Small Business Administration (SBA) definition. In terms of 1997 agricultural sales, Clark County received $18.725 million from crop (including greenhouse and nursery) sales and livestock sales, and Hot Springs County received $10.135 million in sales.

Within Tennessee's 19 affected counties, there are 272 entities that may be affected by the rule, and at least 72 of these entities are small, according to the SBA definition. These 19 counties received $447.16 million from crop (including greenhouse and nursery) sales and livestock sales in 1997.

Within North Carolina's 14 affected counties, there are 264 entities that may be affected by the rule. At least 253 of these entities are small. These 14 counties received $1.225 billion from crop (including greenhouse and nursery) sales and livestock sales in 1997.

The market value of sales of agricultural products in the 35 affected counties in the States of Arkansas, Tennessee, and North Carolina were $18.9 million, $477.2 million, and 1.24 billion, respectively, in 1997. According to the 1997 U.S. Agricultural Census, at least 340 of the 551 agricultural entities found in the 35 affected counties are small. We do not know how many of these entities move regulated articles interstate; however, the availability of various treatments for imported fire ant, which permit the interstate movement of regulated articles with only a small additional cost, minimizes any adverse economic effects due to this rule. For example, the value of a standard shipment of nursery plants is between $10,000 to $250,000, and the cost of treating a standard shipment of plants is only around $200. Entities that do not move regulated articles interstate remain unaffected by the rule.

Under these circumstances, the Administrator of the Animal and Plant Health Inspection Service has determined that this action will not have a significant impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 65 FR 30337-30341 on May 11, 2000.

Authority: Title IV, Pub. L. 106-224, 114 Stat. 438, 7 U.S.C. 7701-7772; 7 U.S.C. 166; 7 CFR 2.22, 2.80, and 371.3.

Done in Washington, DC, this 18th day of August 2000.
Bobby R. Acord,
Acting Administrator, Animal and Plant Health Inspection Service.

[FR Doc. 00-21649 Filed 8-23-00; 8:45 am]

BILLING CODE 3410-34-U